FEDERAL COMMUNICATIONS COMMISSION

47 CFR Part 90

[WC Docket No. 10-90; Report No. 2986]

Petition for Reconsideration of Action in Rulemaking Proceeding

AGENCY: Federal Communications Commission.

ACTION: Petition for reconsideration.

SUMMARY: In this document, a Petition for Reconsideration (Petition) has been filed in the Commission's Rulemaking proceeding by Elizabeth Bowles, President, on behalf of the Wireless Internet Service Providers Association.

DATES: Oppositions to the Petition must be filed on or before August 7, 2013. Replies to an opposition must be filed on or before August 19, 2013.

ADDRESSES: Federal Communications Commission, 445 12th Street SW., Washington, DC 20554.

FOR FURTHER INFORMATION CONTACT: Ryan Yates, Wireline Competition Bureau (202) 418-7400—voice or (202) 418-0484—TTY.

SUPPLEMENTARY INFORMATION: This is a summary of Commission's document, Report No. 2986, released July 12, 2013. The full text of this document is available for viewing and copying in Room CY-B402, 445 12th Street SW., Washington, DC or may be purchased from the Commission's copy contractor, Best Copy and Printing, Inc. (BCPI) (1-800-378-3160). The Commission will not send a copy of this document pursuant to the Congressional Review Act, 5 U.S.C. 801(a)(1)(A), because this document does not have an impact on any rules of particular applicability.

Subject: Amendment of part 90 of the Commission's Rules, document FCC 13-52, published at 78 FR 28749, May 16, 2013, in WC Docket No. 10-90, and published pursuant to 47 CFR 1.429(e). See also § 1.4(b)(1) of the Commission's rules.

Number of Petitions Filed: 1.

Federal Communications Commission.
Marlene H. Dortch,
Secretary, Office of the Secretary, Office of Managing Director.

[FR Doc. 2013-17593 Filed 7-22-13; 8:45 am]

BILLING CODE 6712-01-P